DEPARTMENT OF LABOR

Occupational Safety and Health Administration

29 CFR Part 1952

Oregon State Plan; Approval of Plan Supplement; Change in Level of Federal Enforcement: Crater Lake National Park

AGENCY: Occupational Safety and Health Administration (OSHA), U.S. Department of Labor.

ACTION: Final rule.

SUMMARY: This document gives notice of OSHA's approval of a change to the state of Oregon's occupational safety and health state plan to exclude coverage of private sector contractors at Crater Lake National Park. Accordingly, Federal OSHA will exercise enforcement authority over such employers. OSHA is amending its description of the state plan to reflect this change in the level of Federal enforcement in the state.

DATES: Effective January 18, 2006.

FOR FURTHER INFORMATION CONTACT: Barbara E. Bryant, Director, Office of State Programs, Directorate of Cooperative and State Programs, Room N-3700, OSHA, U.S. Department of Labor, 200 Constitution Avenue, NW., Washington, DC 20210; telephone (202) 693-2244. An electronic copy of this Federal Register notice is available on OSHA's Web site at http://www.osha.gov.

SUPPLEMENTARY INFORMATION:

A. Background

Section 18 of the Occupational Safety and Health Act of 1970 (the Act), 29 U.S.C. 667, provides that states which wish to assume responsibility for developing and enforcing their own occupational safety and health standards may do so by submitting, and obtaining Federal approval of, a state plan. State plan approval occurs in stages which include initial approval under Section 18(c) of the Act and, ultimately, final approval under Section 18(e).

The Oregon Occupational Safety and Health State Plan was initially approved under Section 18(c) of the Act and Part 1902 on December 22, 1972 (37 FR 28628, Dec. 28, 1972). The Oregon program (Oregon OSHA) is administered by the Occupational Safety and Health Division of the Oregon Department of Consumer and Business Services. On May 12, 2005, OSHA awarded final approval to the Oregon State Plan pursuant to Section 18(e) and amended Subpart R of 29 CFR part 1952 to reflect the Acting Assistant Secretary's decision (70 FR 24947). As a result, OSHA relinquished its authority with regard to occupational safety and health issues covered by the Oregon State Plan (with the exception of temporary labor camps). Federal OSHA retained its authority over safety and health in private sector establishments on Indian reservations and tribal trust lands, including tribal and Indian-owned enterprises; Federal agencies; the U.S. Postal Service and its contractors; contractors on U.S. military reservations, except those working on U.S. Army Corps of Engineers dam construction projects; and private sector maritime employment on or adjacent to navigable waters, including shipyard operations and marine terminals.

Federal OSHA has determined that Oregon's Crater Lake National Park, established in 1902, became an area of “exclusive Federal jurisdiction” by an act of Congress on August 21, 1916 (39 Stat. 521), in response to an act by the Oregon state legislature on January 25, 1915, ceding to the United States exclusive jurisdiction over all lands within Crater Lake National Park. Accordingly, OSHA officials informed Oregon OSHA of OSHA's determination. Federal OSHA officials also met on August 16, 2005 with the Crater Lake National Park superintendent, his staff and contractors working at the Park to inform them that Federal OSHA had jurisdiction over both the Federal employees and private sector contractors at Crater Lake. By e-mail of August 23, 2005, from Michele Patterson, Deputy Administrator, Oregon Occupational Safety and Health Division (OR-OSHA) to Richard Terrill, Regional Administrator, the state of Oregon agreed that the state did not have authority to regulate private sector contractors in the Park and that Federal OSHA should exercise jurisdiction over all employees (except state and local government employees, should there be any) at Crater Lake National Park.

Accordingly, Crater Lake National Park is deemed to be an issue no longer covered by the Oregon State Plan, and Federal OSHA is assuming jurisdiction and enforcement responsibility for all private sector as well as Federal employees at the Park. OSHA is also amending its description of the state plan to reflect this change in the level of Federal enforcement.

B. Location of Supplement for Inspection and Copying

A copy of the documents referenced in this notice may be obtained from: Office of State Programs, Directorate of Cooperative and State Programs, Occupational Safety and Health Administration, Room N3700, 200 Constitution Avenue, NW., Washington, DC 20210, (202) 693-2244, fax (202) 693-1671; Office of the Regional Administrator, Occupational Safety and Health Administration, 1111 Third Avenue, Suite 715, Seattle, Washington 98101-3212; and the Oregon Occupational Safety and Health Division, Department of Consumer and Business Services, 350 Winter Street, NE., Room 430, Salem, Oregon 97310. Other information about the Oregon State Plan is posted on the state's Web site at http://www.cbs.state.or.us/external/osha/. Electronic copies of this Federal Register notice are available on OSHA's Web page at http://www.osha.gov/.

C. Public Participation

Under 29 CFR 1953.3(e), the Assistant Secretary may prescribe alternative procedures to expedite the review process or for other good cause which may be consistent with applicable laws. Federal OSHA and the state of Oregon have determined that all employers and employees (except state and local government employees, should there be any) at Crater Lake National Park are subject to Federal jurisdiction. This change to Federal jurisdiction has been communicated to Park authorities and their contractors and is already in effect. Accordingly, OSHA finds that further public participation is unnecessary, and this notice of approval is effective upon publication in the Federal Register.

List of Subjects in 29 CFR Part 1952

National parks, Intergovernmental relations, Law enforcement, Occupational safety and health.

Signed at Washington, DC, this 3rd day of January 2006.
Jonathan L. Snare,
Acting Assistant Secretary.

Part 1952 of 29 CFR is hereby amended as follows:

PART 1952—[AMENDED]

1. The authority section for part 1952 continues to read as follows:

Authority: Section 18 of the OSH Act (29 U.S.C. 667), 29 CFR part 1902, and Secretary of Labor's Order No. 5-2002 (67 FR 65008).

Subpart D—Oregon

2. Amend § 1952.104 by revising the second sentence of paragraph (b) to read as follows:

§ 1952.104 Final approval determination.

* * * * *

(b) * * * The plan does not cover private sector establishments on Indian reservations and tribal trust lands, including tribal and Indian-owned enterprises; employment at Crater Lake National Park; Federal agencies; the U.S. Postal Service and its contractors; contractors on U.S. military reservations, except those working on U.S. Army Corps of Engineers dam construction projects; and private sector maritime employment on or adjacent to navigable waters, including shipyard operations and marine terminals.

* * * * *

3. Amend § 1952.105 by redesignating paragraph (b)(1)(iv) as (b)(1)(v) and adding a new paragraph (b)(1)(iv), to read as follows:

§ 1952.105 Level of Federal enforcement.

* * * * *

(b)(1) * * *

(iv) Enforcement of occupational safety and health standards with regard to employment at Crater Lake National Park;

* * * * *

[FR Doc. 06-282 Filed 1-17-06; 8:45 am]

BILLING CODE 4510-26-P